DEPARTMENT OF TRANSPORTATION

Federal Aviation Administration

14 CFR Part 71

[Docket No. FAA-2016-8162; Airspace Docket No. 17-ANM-12]

Establishment of Class E Airspace, and Amendment of Class E Airspace; St. George, UT

AGENCY: Federal Aviation Administration (FAA), DOT.

ACTION: Final rule.

SUMMARY: This action establishes Class E airspace designated as an extension to a Class E surface area, establishes Class E en route airspace, and modifies Class E airspace extending upward from 700 feet above the surface at St. George Regional Airport (formerly St. George Municipal Airport), St. George, UT. After a review of the airspace, the FAA found redesign necessary to support new instrument flight rules (IFR) standard instrument approach procedures and en route operations where the Federal airway structure is inadequate, for the safety and management of aircraft operations at the airport. Also, this action updates the airport name from St. George Municipal Airport, to St. George Regional Airport, in the associated Class E airspace areas.

DATES: Effective 0901 UTC, October 12, 2017. The Director of the Federal Register approves this incorporation by reference action under Title 1, Code of Federal Regulations, part 51, subject to the annual revision of FAA Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of this material at NARA, call (202) 741-6030, or go to http://www.archives.gov/federal_register/code_of_federal-regulations/ibr_locations.html.

FAA Order 7400.11, Airspace Designations and Reporting Points, is published yearly and effective on September 15.

FOR FURTHER INFORMATION CONTACT: Tom Clark, Federal Aviation Administration, Operations Support Group, Western Service Center, 1601 Lind Avenue SW., Renton, WA, 98057; telephone (425) 203-4511.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it establishes Class E airspace and modifies Class E airspace at St. George Regional Airport, St. George, UT, to support IFR operations in standard instrument approach procedures at the airport.

History

On April 20, 2017, the FAA published in the Federal Register (82 FR 18594) Docket FAA-2016-8162 a notice of proposed rulemaking (NPRM) to establish Class E airspace designated as an extension, establish Class E en route airspace, and modify Class E airspace extending upward from 700 feet above the surface at St. George Regional Airport, St. George, UT. Interested parties were invited to participate in this rulemaking effort by submitting written comments on the proposal to the FAA. No comments were received.

Subsequent to publication, the FAA discovered the references to Class D airspace at St. George, UT, were in error. Those references are removed from the rule. No Class D airspace exists or is proposed at St. George, UT.

Class E airspace designations are published in paragraph 6002, 6004, 6005, and 6006, respectively of FAA Order 7400.11A, dated August 3, 2016, and effective September 15, 2016, which is incorporated by reference in 14 CFR part 71.1. The Class E airspace designation listed in this document will be published subsequently in the Order.

Availability and Summary of Documents for Incorporation by Reference

This document amends FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Rule

This amendment to Title 14, Code of Federal Regulations (14 CFR) part 71 establishes Class E airspace designated as an extension to a Class E surface area, establishes Class E domestic en route airspace upward from 1,200 feet above the surface, and modifies Class E airspace extending upward from 700 feet above the surface at St. George Regional Airport, St. George, UT. This airspace redesign is necessary for the safety and management of aircraft operations at the airport and to support en route operations where the Federal airway structure is inadequate. Also, this action updates the airport name from St. George Municipal Airport, to St. George Regional Airport, in the associated Class E airspace areas.

Class E airspace designated as an extension to a Class E surface area is established within 1 mile each side of the St. George Regional Airport 030° bearing from the airport 4.5-mile radius to 7.7 miles northeast of the airport, and within 2 miles each side of the airport 203° bearing from the 4.5-mile radius to 8.5 miles southwest of the airport. This controlled airspace supports instrument flight rules (IFR) operations for standard instrument approach aircraft operating below 1,000 feet above the surface.

Class E airspace extending upward from 700 feet above the surface is reduced to a 4.5-mile radius (from a 8.1-mile radius) of the airport, and within 2.5 miles each side of the airport 203° bearing (from 4 miles each side of the 200° bearing) of the airport extending from the airport 4.5-mile radius (from a 8.1-mile radius) to 13.9 miles southwest (from 20 miles southwest) of the airport, and within 2.2 miles (from 4 miles) each side of the airport 030° bearing extending from the airport 4.5-mile radius (from a 8.1-mile radius) to 21.6 miles northeast (from 25.8 miles) of the airport. The existing 1,200 foot airspace is removed since this would duplicate the en route airspace described below.

Class E en route airspace is established for the safety and management of IFR point-to-point operations outside of the established airway structure, and Air Traffic Control vectoring services.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 6002 Class E Airspace Designated as Surface Areas.

* * * * *

ANM UT E2 St. George, UT [Modified]

St. George Regional Airport, UT

(Lat. 37°02′11″ N., long. 113°30′37″ W.)

Within a 4.5-mile radius of St. George Regional Airport.

Paragraph 6004 Class E Airspace Areas Designated as an Extension to a Class D or Class E Surface Area.

* * * * *

ANM UT E4 St. George, UT [New]

St. George Regional Airport, UT

(Lat. 37°02′11″ N., long. 113°30′37″ W.)

That airspace extending upward from the surface within 1 mile each side of the St. George Regional Airport 030° bearing from the airport 4.5-mile radius to 7.7 miles northeast of the airport, and within 2 miles each side of the airport 203° bearing from the airport 4.5-mile radius to 8.5 miles southwest of the airport.

Paragraph 6005 Class E Airspace Areas Extending Upward From 700 feet or More Above the Surface of the Earth.

* * * * *

ANM UT E5 St. George, UT [Modified]

St. George Regional Airport, UT

(Lat. 37°02′11″ N., long. 113°30′37″ W.)

That airspace extending upward from 700 feet above the surface within a 4.5-mile radius of the St. George Regional Airport, and within 2.5 miles each side of the airport 203° bearing, extending from the airport 4.5-mile radius to 13.9 miles southwest of the airport, and within 2.2 miles each side of the airport 030° bearing extending from the airport 4.5-mile radius to 21.6 miles northeast of the airport.

Paragraph 6006 En Route Domestic Airspace Areas.

* * * * *

ANM UT E6 St. George, UT [New]

St. George Regional Airport, UT

(Lat. 37°02′11″ N., long. 113°30′37″ W.)

That airspace extending upward from 1,200 feet above the surface within an area bounded by lat. 37°30′00″ N., long. 113°00′00″ W.; to lat. 37°48′00″ N., long. 113°30′00″ W.; to lat. 37°49′25″ N., long. 113°42′01″ W.; to lat. 37°43′00″ N., long. 113°47′00″ W.; to lat. 37°34′30″ N., long. 113°54′00″ W.; to lat. 37°25′32″ N., long. 113°51′22″ W.; to lat. 37°15′00″ N., long. 114°00′00″ W.; to lat. 36°58′00″ N., long. 114°14′03″ W.; to lat. 36°19′00″ N., long. 114°14′03″ W.; to lat. 35°39′00″ N., long. 114°14′03″ W.; to lat. 35°22′40″ N., long. 113°46′10″ W.; to lat. 36°02′00″ N., long. 112°58′00″ W.; to lat. 36°42′00″ N., long. 112°56′00″ W.; to lat. 36°57′00″ N., long. 112°52′00″ W., thence to the point of beginning.

Issued in Seattle, Washington, on July 27, 2017.
Shawn Kozica,
Acting Group Manager, Operations Support Group, Western Service Center.

[FR Doc. 2017-16282 Filed 8-2-17; 8:45 am]

BILLING CODE 4910-13-P